DEPARTMENT OF COMMERCE

National Oceanic and Atmospheric Administration

[I.D. 011603B]

New England Fishery Management Council; Public Meetings

AGENCY: National Marine Fisheries Service (NMFS), National Oceanic and Atmospheric Administration (NOAA), Commerce

ACTION: Notice of public meetings.

SUMMARY: The New England Fishery Management Council (Council) is scheduling two public meetings of its (1) Monkfish Oversight Committee and (2) representatives of its Groundfish, Monkfish, Habitat, Sea Scallop, Skate, Whiting and Herring Advisory Panels in February, 2003 to consider actions affecting New England fisheries in the exclusive economic zone (EEZ). Recommendations from these groups will be brought to the full Council for formal consideration and action, if appropriate.

DATES: The meetings will be held between February 6-13, 2003. See SUPPLEMENTARY INFORMATION for specific dates and times.

ADDRESSES: The meetings will be held in Taunton, MA and South Portland, ME. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Thursday, February 6, 2003, at 9:30 a.m and Friday, February 7, 2003, at 8:30 a.m. Joint Advisory Panels Representatives Meeting.

Location: Holiday Inn Taunton, 700 Myles Standish Boulevard, Taunton, MA 02780; (508) 823-0430.

There will be a joint meeting of representatives from the Council's Groundfish, Monkfish, Habitat, Sea Scallop, Skate, Whiting and Herring Advisory Panels to comment on and develop alternatives to Essential Fish Habitat (EFH) area management currently proposed for the Scallop Amendment 10 Draft Supplemental Environmental Impact Statement.

Wednesday, February 12, 2003, at 10 a.m and Thursday, February 13, 2003 at 8:30 a.m. Monkfish Oversight Committee Meeting.

Location: Sheraton South Portland Hotel, 363 Maine Mall Road, South Portland, ME 04106; telephone: (207) 775-6161.

The Committee will discuss issues and options to be included in the Monkfish Amendment 2 Draft Environmental Impact Statement (DSEIS). Alternatives designed to achieve the approved goals and objectives include, but are not limited to: Permit qualification criteria for vessels fishing south of 38°N; management program for a deepwater directed fishery in the SFMA; separation of monkfish days-at-sea (DAS) from multispecies and sea scallop DAS programs, including counting of monkfish DAS as 24-hour days; measures to minimize impacts of the fishery on endangered sea turtles; measures to minimize bycatch in directed and non-directed fisheries; an exemption program for vessels fishing for monkfish outside of the EEZ (in the NAFO Regulated Area); alternative measures to minimize impacts of the fishery on EFH; measures to improve data collection and research on monkfish, including mechanisms for funding cooperative research programs; and, timing of the annual review and adjustment process. The Committee may develop and recommend other management alternatives not included in the list above.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: January 16, 2003.
Richard W. Surdi,
Acting Director, Office of Sustainable Fisheries, National Marine Fisheries Service.

[FR Doc. 03-1465 Filed 1-22-03; 8:45 am]

BILLING CODE 3510-22-S